DEPARTMENT OF LABOR

Employment and Training Administration

[TA-W-74,810; TA-W-74,810A; TA-W-74,810B]

Amended Certification Regarding Eligibility To Apply for Worker Adjustment Assistance; SYMANTEC Corporation, the Enterprise Product and Services Group, SSQ Engineering, VCS and VCS-One Division, Austin, TX; SYMANTEC Corporation, the Enterprise Product and Services Group, SQA Engineering, VCS and VCS-One Division, Encryption Engineering Division, Including Remote Workers Across the United States, Mountain View, CA; SYMANTEC Corporation, the Enterprise Product and Services Group, SQA Engineering, VCS and VCS-One Division, Beaverton, OR

In accordance with Section 223 of the Trade Act of 1974, as amended (“Act”), 19 U.S.C. 2273, the Department of Labor issued a Certification of Eligibility to Apply for Worker Adjustment Assistance on April 20, 2011, applicable to workers of Symantec Corporation, SQA Engineering, VCS and VCS-One Group, Austin, Texas (TA-W-74,810), Symantec Corporation, SQA Engineering, VCS and VCS-One Group, Mountain View, California (TA-W-80,810A), and Symantec Corporation, SQA Engineering, VCS and VCS-One Group, Beaverton, Oregon (TA-W-80,810B).

The Department's Notice of determination was published in the Federal Register on May 3, 2011 (76 FR 24915). The subject worker groups provide SQA engineering services.

At the request of a company official, the Department reviewed the certification for workers of Symantec Corporation (subject firm).

New findings show that the Encryption Engineering Division, SQA Engineering, VCS and VCS-One Division, work in conjunction with each other, that the aforementioned groups are under the Enterprise Products Division umbrella of the subject firm, and that the aforementioned groups have experienced significant worker separations due to a shift in supply of SQA engineering services (or like or directly competitive services) to India.

Accordingly, the Department is amending the certification to include workers of the Encryption Engineering Division at the Mountain View, California location, and to correct the subject firm name in its entirety.

The intent of the Department's certification is to include all workers of the subject firm who were adversely affected by a shift in SQA engineering services to Pune, India.

The amended notice applicable to TA-W-74,810, TA-W-74,810A and TA-W-74,810B are hereby issued as follows:

All workers of Symantec Corporation, The Enterprise Product and Services Group, SQA Engineering, VCS and VCS-One Division, Austin, Texas (TA-W-74,810), Symantec Corporation, The Enterprise Product and Services Group, SQA Engineering and VCS and VCS-One Division, Encryption Engineering Division, including remote workers across the United States, Mountain View, California (TA-W-74,810A), and Symantec Corporation, The Enterprise Product and Services Group, SQA Engineering, VCS and VCS-One Division, Beaverton, Oregon (TA-W-74,810B), who became totally or partially separated from employment on or after November 1, 2009, through April 20, 2013, and all workers in the group threatened with total or partial separation from employment on date of certification through two years from the date of certification, are eligible to apply for adjustment assistance under Chapter 2 of Title II of the Trade Act of 1974, as amended.

Signed in Washington, DC, this 28th day of September 2011.
Del Min Amy Chen,
Certifying Officer, Office of Trade Adjustment Assistance.

[FR Doc. 2011-25717 Filed 10-4-11; 8:45 am]

BILLING CODE 4510-FN-P